DEPARTMENT OF EDUCATION

National Assessment Governing Board; Meeting

AGENCY: National Assessment Governing Board, U.S. Department of Education.

ACTION: Notice of Open and Closed Meeting Sessions.

SUMMARY: This notice sets forth the schedule and proposed agenda for the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g. interpreting services, assistive listening devices, materials in alternative format) should notify Munira Mwalimu at 202-357-6938 or at Munira.Mwalimu@ed.gov no later than February 21, 2014. We will attempt to meet requests after this date but cannot guarantee availability of the requested accommodation. The meeting site is accessible to individuals with disabilities.

DATES: February 27-March 1, 2014.

Times

February 27: Committee Meetings:

Assessment Development Committee: Closed Session: 1:15 p.m.-4:15 p.m.

Executive Committee: Open Session: 4:30 p.m.-5:30 p.m.

February 28: Full Board and Committee Meetings:

Full Board: Open Session: 8:30 a.m.-12:15 p.m.; Closed Session: 12:30 p.m.-1:30 p.m.; Open Session: 1:45 p.m.-5:00 p.m.

Committee Meetings:

Reporting and Dissemination Committee (R&D): Open Session: 10:00 a.m.-12:15 p.m.

Assessment Development Committee (ADC): Open Session: 10:00 a.m.-12:15 p.m.

Committee on Standards, Design and Methodology (COSDAM): Open Session: 10:00 a.m.-11:20 a.m.; Closed Session: 11:20 a.m.-12:05 p.m.; Open session: 12:05 p.m.-12:15 p.m.

March 1: Full Board and Committee Meetings:

Nominations Committee: Closed Session: 7:30 a.m.-8:15 a.m.

Full Board: Closed Session: 8:15 a.m.-8:45 a.m.; Open Session 8:45-8:50 a.m.; Closed Session: 8:50 a.m.-9:50 a.m.; Open Session: 10:00 a.m.-12:00 p.m.

Location: The Omni Shoreham, 2500 Calvert Street, Washington, DC 20008.

FOR FURTHER INFORMATION CONTACT: Munira Mwalimu, Executive Officer, National Assessment Governing Board, 800 North Capitol Street NW., Suite 825, Washington, DC 20002-4233, Telephone: (202) 357-6938.

SUPPLEMENTARY INFORMATION: The National Assessment Governing Board (Board) is established under section 302 of the National Assessment of Educational Progress Authorization Act.

The Board is established to formulate policy guidelines for the National Assessment of Educational Progress (NAEP). The Board's responsibilities include the following: selecting subject areas to be assessed, developing assessment frameworks and specifications, developing appropriate student achievement levels for each grade and subject tested, developing standards and procedures for interstate and national comparisons, developing guidelines for reporting and disseminating results, and releasing initial NAEP results to the public. On February 27, 2014, from 1:15 p.m. to 4:15 p.m. the Assessment Development Committee will meet in closed session to review secure NAEP test questions in grades 4 and 8 for the 2015 operational assessments in reading and mathematics. The Committee will review and discuss secure test items that cannot be discussed in an open meeting to protect the confidentiality of the secure assessment materials. Premature disclosure of these results would significantly impede implementation of the NAEP assessment program, and is therefore protected by exemption 9(B) of section 552b(c) of Title 5 United States Code.

On February 27, 2014, the Board's Executive Committee will convene in open session from 4:30 p.m. to 5:30 p.m. to review and discuss the February 28-March 1, 2014 Board meeting agenda, receive a status report on the 2015 Trial Urban District Assessment (TUDA), discuss Board Committee issues and challenges to be addressed by the respective Board Committees, and review the Board's ongoing work.

On February 28, 2014, the full Board will meet in open session from 8:30 a.m. to 9:45 a.m. The Board will review and approve the February 28-March 1, 2014 Board meeting agenda and meeting minutes from the December 6-7, 2013 Quarterly Board meeting. This session will be followed by a report from the Executive Director of the Governing Board, and updates on NCES and NAEP from the Director of the Institute of Education Sciences (IES). Thereafter, the Board will recess for Committee meetings from 10:00 a.m. to 12:15 p.m.

The Reporting and Dissemination Committee and the Assessment Development Committee will meet in open session from 10:00 a.m. to 12:15 p.m. The Committee on Standards, Design and Methodology (COSDAM) will meet in open session from 10:00 a.m. to 11:20 a.m., in closed session from 11:20 a.m. to 12:05 p.m., and thereafter in open session from 12:05 p.m. to 12:15 p.m. During the closed session, COSDAM members will receive a briefing on student participation and response rates from the 2013 grade 12 NAEP Mathematics and Reading assessments. These data have not yet been released and therefore cannot be disclosed to the general public at this time. Premature disclosure of these secure data would significantly impede implementation of the NAEP program, and is therefore protected by exemption 9(B) of section 552b(c) of Title 5 U.S.C.

Following the Committee meetings, the Board will convene in closed session from 12:30 p.m. to 1:30 p.m. During this session, the full Board will receive a closed session briefing on the 2013 NAEP Reading and Mathematics Grade 12 Report Card results. The Board will receive an embargoed briefing on preliminary results, which will include secure test items, embargoed assessment data, and results that cannot be discussed in an open meeting prior to their official approval and release by the National Assessment Governing Board. Premature disclosure of these results would significantly impede implementation of the NAEP assessment program, and is therefore protected by exemption 9(B) of section 552b(c) of Title 5 United States Code.

The Board will meet in open session on February 28, 2014 from 1:45 p.m. to 5:00 p.m. Presentation and discussion topics include the NAEP Technology and Engineering Literacy Assessment, Transition to NAEP Technology-Based Assessments, and the Board's 25th Anniversary Symposium. The February 28, 2014 session of the Board meeting is scheduled to adjourn at 5:00 p.m.

On March 1, 2014, the Nominations Committee will meet in closed session from 7:30 a.m. to 8:15 a.m. to discuss potential candidates for Board terms beginning October 1, 2014. The Committee's recommendations will be presented for full Board consideration in closed session from 8:30 a.m. to 8:45 a.m. The Committee's discussions and Board review pertain solely to internal personnel rules and practices of an agency and information of a personal nature where disclosure would constitute an unwarranted invasion of personal privacy. As such, the discussions are protected by exemptions 2 and 6 of section 552b(c) of Title 5 of the United States Code. Board action on the recommendations will be taken in open session at 8:45 a.m.

On March 1, 2014, from 8:50 a.m. to 9:50 a.m. the full Board will receive a closed session briefing on the NAEP budget and costs for specific activities under current contracts, and independent government cost estimates from the National Center for Education Statistics (NCES) staff on various options for proposed item development, data collection, scoring and analysis, and NAEP reporting for 2014-2017. Implications of the cost estimates and the available funds on future NAEP activities will also be discussed.

The costs of specific activities budgeted under current contracts would disclose financial information that is proprietary, protected under Section 552b(c)(4) of Title 5 U.S.C. The discussion of independent government cost estimates for the NAEP contracts is necessary for ensuring that NAEP contracts meet congressionally mandated goals and adhere to Board policies on NAEP assessments available at www.nagb.org/policies.html. Public disclosure of this information would likely have an adverse financial effect on the NAEP program by providing contractors attending an unfair advantage in procurement and contract negotiations for NAEP. Therefore discussion of this information in open session would significantly impede implementation of a proposed agency action and is protected by exemption 9(B) of section 552b of Title 5 U.S.C.

Following this closed briefing, the Board will meet in open session to discuss Board initiatives and ongoing work. The Board is scheduled to receive reports from the standing Committees and take action on Committee recommendations from 11:00 a.m. to 12:00 p.m. The March 1, 2014 meeting is scheduled to adjourn at 12:00 p.m.

A verbatim transcript of the meeting, consistent with the policy of section 5 U.S.C. 552b(c) will be available to the public within 14 days of the meeting. Records are kept of all Board proceedings and are available for public inspection at the U.S. Department of Education, National Assessment Governing Board, Suite # 825, 800 North Capitol Street NW., Washington, DC 20002, from 9:00 a.m. to 5:00 p.m. Eastern Time, Monday through Friday.

Electronic Access to This Document: You may view this document, as well as all other documents of this Department published in the Federal Register, in text or Adobe Portable Document Format (PDF) on the Internet at http://www.ed.gov/news/fedregister.

To use PDF you must have Adobe Acrobat Reader, which is available free at http://get.adobe.com/reader. If you have questions about using PDF, call the U.S. Government Printing Office (GPO), toll free at 1-866-512-1800; or in the Washington, DC area at (202) 512-0000.

Note: The official version of this document is the document published in the Federal Register. Free Internet access to the official edition of the Federal Register and the Code of Federal Regulations is available on GPO Access at: www.gpoaccess.gov/nara/index.html.

Dated: February 10, 2014.
Cornelia S. Orr,
Executive Director, National Assessment Governing Board (NAGB), U.S. Department of Education.

[FR Doc. 2014-03225 Filed 2-13-14; 8:45 am]

BILLING CODE 4000-01-P